DEPARTMENT OF ENERGY

Federal Energy Regulatory Commission

Combined Notice of Filings

Take notice that the Commission has received the following Natural Gas Pipeline Rate and Refund Report filings:

Filings Instituting Proceedings

Docket Numbers: RP15-175-000.

Applicants: Kinetica Energy Express, LLC.

Description: Tariff Withdrawal per 154.205(a): Withdraw Filing 194.

Filed Date: 11/19/14.

Accession Number: 20141119-5002.

Comments Due: 5 p.m. ET 12/1/14.

Docket Numbers: RP15-184-000.

Applicants: Northwest Pipeline LLC.

Description: § 4(d) rate filing per 154.204: Non-Conforming Updates: Contracts 100010 & 140415 to be effective 12/19/2014.

Filed Date: 11/19/14.

Accession Number: 20141119-5103.

Comments Due: 5 p.m. ET 12/1/14.

Docket Numbers: RP15-185-000.

Applicants: Transcontinental Gas Pipe Line Company.

Description: Compliance filing per 154.203: IDLS Revenue Sharing Report.

Filed Date: 11/19/14.

Accession Number: 20141119-5162.

Comments Due: 5 p.m. ET 12/1/14.

Docket Numbers: RP15-186-000.

Applicants: Southern Star Central Gas Pipeline, Inc.

Description: § 4(d) rate filing per 154.204: Vol 2—Non-Conforming Agreement—Chesapeake Energy Marketing, Inc. to be effective 12/1/2014.

Filed Date: 11/19/14.

Accession Number: 20141119-5172.

Comments Due: 5 p.m. ET 12/1/14.

Docket Numbers: RP15-187-000.

Applicants: Gulf South Pipeline Company, LP.

Description: § 4(d) rate filing per 154.204: Cap Rel Neg Rate Agmts (QEP 37657 to BP 43484, 43485) to be effective 12/1/2014.

Filed Date: 11/20/14.

Accession Number: 20141120-5019.

Comments Due: 5 p.m. ET 12/2/14.

Docket Numbers: RP15-188-000.

Applicants: Southern Star Central Gas Pipeline, Inc.

Description: Compliance filing per 154.203: Annual Cash-Out Refund Report.

Filed Date: 11/20/14.

Accession Number: 20141120-5028.

Comments Due: 5 p.m. ET 12/2/14.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

Filings in Existing Proceedings

Docket Numbers: RP14-965-001.

Applicants: Kinetica Energy Express, LLC.

Description: Compliance filing per 154.203: Kinetica Energy Express LLC—FERC Gas Tariff—Compliance—Sheet 108 to be effective 10/16/2014.

Filed Date: 11/19/14.

Accession Number: 20141119-5004.

Comments Due: 5 p.m. ET 12/1/14.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 20, 2014.
Nathaniel J. Davis, Sr.,
Deputy Secretary.

[FR Doc. 2014-28254 Filed 12-1-14; 8:45 am]

BILLING CODE 6717-01-P